NUCLEAR REGULATORY COMMISSION

[NUREG-1520]

Standard Review Plan for the Review of a License Application for a Fuel Cycle Facility; Notice of Availability

AGENCY: Nuclear Regulatory Commission.

ACTION: Notice of availability.

SUMMARY: The Nuclear Regulatory Commission (NRC) has issued NUREG-1520 entitled Standard Review Plan (SRP) for the Review of an Application for a Fuel Cycle Facility. This SRP provides guidance to the NRC reviewers in the Office of Nuclear Material Safety and Safeguards (NMSS) who perform safety and environmental impact reviews of applications to construct or modify and operate nuclear fuel cycle facilities licensed under 10 CFR part 70. As such, adherence to this SRP helps to ensure the quality, uniformity, and predictability of the staff reviews. This SRP also makes information about licensing acceptance criteria widely available to interested members of the public and the regulated industry. Each SRP section addresses the responsibilities of the staff reviewers, the matters that they review, the Commission's regulations pertinent to specific technical matters, the acceptance criteria used by the staff, the process and procedures used to accomplish the review, and the conclusions that are appropriate to summarize the review.

ADDRESSES: NUREG-1520 is available for inspection and copying for a fee at the Commission's Public Document Room, at the U.S. Nuclear Regulatory Commission, One White Flint North, 11555 Rockville Pike, Rockville, Maryland 20852, and electronically from the ADAMS Public Library component on the NRC Web site, http://www.nrc.gov (the Public Electronic Reading Room). The document's accession number is ML020930033.

Copies of NUREG-1520 also may be obtained through the Government Printing Office at http://www.access.gpo.gov/ by searching for “NUREG-1520” under the topic of “Nuclear Power/200” or through the National Technical Information Services at a nominal cost. NUREG-1520 also can be downloaded as an Adobe Acrobat PDF file by first setting the browser to http://www.nrc.gov and then using the “Nuclear Materials,” “Fuel cycle facilities,” “Fuel Cycle Facilities Regulations, Guidance, and Communications” and “Guidance” links in sequence or by going directly to http://www.nrc.gov/reading-rm/doc-collections/nuregs/staff/sr1520/. A free copy of Adobe Acrobat Reader is available from http://www.adobe.com/products/acrobat/readstep.html.

FOR FURTHER INFORMATION CONTACT: For further information regarding NUREG-1520, contact Yawar Faraz, Office of Nuclear Material Safety and Safeguards, U.S. Nuclear Regulatory Commission, Washington, DC 20555-0001, telephone (301) 415-8113.

SUPPLEMENTARY INFORMATION:

Background

The Commission promulgated a major amendment to 10 CFR part 70 on September 18, 2000 (65 FR 56211). The amendment, which primarily involved the addition of subpart H to 10 CFR part 70, identifies appropriate consequence criteria and the level of protection needed to prevent or mitigate accidents that equal or exceed these criteria; requires affected licensees to perform an integrated safety analysis (ISA) to identify potential accidents at the facility and the items relied on for safety necessary to prevent these potential accidents and/or mitigate their consequences; requires the implementation of measures to ensure that the items relied on for safety are available and reliable to perform their function when needed; requires the inclusion of the safety bases, including a summary of the ISA, with the license application; and allows for licensees to make certain changes to their safety program and facilities without prior NRC approval. After revising part 70, the NRC staff updated the existing draft part 70 SRP to address the new requirements. As it had done in revising the regulations in part 70, the NRC staff worked closely with the stakeholders in developing the guidance contained in the SRP. The part 70 stakeholders included representatives of the fuel cycle industry, private citizens, and other groups who declared an interest. The staff had previously issued a separate SRP on the licensing of a mixed oxide (MOX) fuel fabrication facility. The MOX SRP was published in August 2000 as NUREG-1718 and is guiding the staff's ongoing review of the proposed MOX facility.

Dated at Rockville, Maryland, this 18th day of April, 2002.
For the Nuclear Regulatory Commission.
Daniel M. Gillen,
Chief, Fuel Cycle Facilities Branch, Division of Fuel Cycle Safety and Safeguards, Office of Nuclear Material Safety and Safeguards.

[FR Doc. 02-10457 Filed 4-26-02; 8:45 am]

BILLING CODE 7590-01-P